DEPARTMENT OF COMMERCE

National Oceanic and Atmospheric Administration

[RTID 0648-XF536]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Tuesday, March 10, 2026, from 12:30 p.m. to 5:15 p.m. See SUPPLEMENTARY INFORMATION for agenda details.

ADDRESSES: The meeting will take place over webinar using the Webex platform with a telephone-only connection option. Details on how to connect to the webinar by computer and by telephone will be available at: https://www.mafmc.org/ssc.

Council address: Mid-Atlantic Fishery Management Council, 800 N. State Street, Suite 201, Dover, DE 19901; telephone: (302) 674-2331; website: https://www.mafmc.org.

FOR FURTHER INFORMATION CONTACT: Christopher M. Moore, Ph.D., Executive Director, Mid-Atlantic Fishery Management Council, telephone: (302) 526-5255.

SUPPLEMENTARY INFORMATION: During this meeting, the SSC will review and provide feedback on the results of a recently completed study on black sea bass genetics along the Atlantic coast. The SSC will receive an overview of the Northeast Fisheries Science Center Cooperative Research Program activities. The SSC will review the Council task to consider potential adjustments to the Illex squid quota based on the Northwest Atlantic Fisheries Organization (NAFO) squid quota and provide initial feedback on the potential biological linkages between the two quotas. In addition, the SSC will discuss the activities and provide any feedback and direction on the tasks for the Overfishing Limit (OFL) Coefficient of Variation (CV) sub-group. The SSC may take up any other business as necessary.

A detailed agenda and background documents will be made available on the Council's website (https://www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: February 18, 2026.
Becky J. Curtis,
Acting Deputy Director, Office of Sustainable Fisheries, National Marine Fisheries Service.

[FR Doc. 2026-03407 Filed 2-19-26; 8:45 am]

BILLING CODE 3510-22-P